DEPARTMENT OF ENERGY

Federal Energy Regulatory Commission

[Docket No. EF02-4011-000]

Southwestern Power Administration; Notice of Filing

September 26, 2002.

Take notice that the Secretary, U.S. Department of Energy on September 20, 2002, submitted to the Federal Energy Regulatory Commission (Commission) for confirmation and approval on a final basis, pursuant to the authority vested in the Commission by Delegation Order No. 00-037.00, effective December 6, 2001, the following Southwestern Power Administration (Southwestern) Integrated System rate schedules:

Rate Schedule P-02, Wholesale Rates for Hydro Peaking Power

Rate Schedule NFTS-02, Wholesale Rates for Non-Federal

Transmission/Interconnection Facilities Service

Rate Schedule EE-02, Wholesale Rate for Excess Energy

The Integrated System (System) rate schedules were confirmed and approved on an interim basis by the Secretary in Rate Order No. SWPA-48 for the period October 1, 2002, through September 30, 2006, and have been submitted to the Commission for confirmation and approval on a final basis for the same period. The System rates will increase the annual revenue from $109,463,500 to $115,006,176 primarily to recover increased expenditures in operation and maintenance (O&M) and investment. In addition, an analysis of the Purchased Power Deferral Account indicates the need for an annual increase of $595,827 to recover the purchased energy costs. The total annual revenue increase will be $6,138,503, or 5.6 percent effective October 1, 2002. Southwestern has continued the rate structure that conforms with the intent of the Commission Order No. 888; consequently, the actual rate impact on each customer will vary based on the type of service requested and provided. The proposal also includes a continuation of the Administrator's Discretionary Purchased Power Adder Adjustment, to adjust the purchased power adder annually up to $0.0011 per kilowatt-hour as necessary, under a formula-type rate, with notification to the Commission.

The Secretary has also submitted for confirmation and approval on a final basis the previous extension of the Integrated System rates. The extension was confirmed and approved on an interim basis by the Deputy Secretary in Rate Order No. SWPA-45 effective October 1, 2001, through September 30, 2002.

Any person desiring to intervene or to protest this filing should file with the Federal Energy Regulatory Commission, 888 First Street, NE, Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings. Comment Date: October 21, 2002.

Linwood A. Watson, Jr.,
Deputy Secretary.

[FR Doc. 02-25011 Filed 10-1-02; 8:45 am]

BILLING CODE 6717-01-P